DEPARTMENT OF COMMERCE

Bureau of Industry and Security

15 CFR Part 744

[Docket No. 250912-0152]

RIN 0694-AK26

Additions and Revisions to the Entity List

AGENCY: Bureau of Industry and Security, Department of Commerce.

ACTION: Final rule.

SUMMARY: In this rule, the Bureau of Industry and Security (BIS) amends the Export Administration Regulations (EAR) by adding 32 entities to the Entity List. These entries are listed on the Entity List under the destination of China, People's Republic of (China) (23), India, (1), Iran (1), Singapore (1), Taiwan (1), Turkey (3), and the United Arab Emirates (UAE) (2). These entities have been determined by the U.S. Government to be acting contrary to the national security or foreign policy interests of the United States. This final rule revises an entry by removing two addresses from one entity under the destination of Russia. Finally, this rule amends 27 existing entries on the Entity List to correct typographical errors under the following destinations: Belarus (3), China (11), Iran (1), Pakistan (1), Russia (9), and Turkey (2).

DATES: This rule is effective September 12, 2025.

FOR FURTHER INFORMATION CONTACT: Chair, End-User Review Committee, Office of the Assistant Secretary for Export Administration, Bureau of Industry and Security, Department of Commerce, Phone: (202) 482-5991, Email: ERC@bis.doc.gov.

SUPPLEMENTARY INFORMATION:

Background

The Entity List (supplement no. 4 to part 744 of the EAR (15 CFR parts 730-774)) identifies entities for which there is reasonable cause to believe, based on specific and articulable facts, that the entities have been involved, are involved, or pose a significant risk of being or becoming involved in activities contrary to the national security or foreign policy interests of the United States, pursuant to § 744.11(b). The EAR imposes additional license requirements on, and limits the availability of, most license exceptions for exports, reexports, and transfers (in-country) when a listed entity is a party to the transaction. The license review policy for each listed entity is identified in the “License Review Policy” column on the Entity List, and the impact on the availability of license exceptions is described in the relevant Federal Register document that added the entity to the Entity List. The Bureau of Industry and Security (BIS) places entities on the Entity List pursuant to part 744 (Control Policy: End-User and End-Use Based) and part 746 (Embargoes and Other Special Controls) of the EAR.

The End-User Review Committee (ERC), composed of representatives of the Departments of Commerce (Chair), State, Defense, Energy and, where appropriate, the Treasury, makes decisions regarding additions to, removals from, or other modifications to the Entity List. The ERC makes decisions to add an entry to the Entity List by majority vote and makes decisions to remove or modify an entry by unanimous vote.

Additions to the Entity List

The ERC determined to add the Chinese Academy of Sciences, National Time Service Center, under the destination of China, to the Entity List. This entity is being added for acquiring and attempting to acquire U.S.-origin items in support of advancing China's military and defense-related space-domain activities, as well as China's quantum technology capabilities; these actions have serious ramifications for U.S. national security, given the military applications of quantum technologies. This entity will be added with a license requirement for all items subject to the EAR and licenses will be reviewed under a presumption of denial.

The ERC determined to add Beijing Fudan Microelectronics Technology Co., Ltd.; Shanghai Fudan Microelectronics Co., Ltd.; Shenzhen Fudan Microelectronics Co., Ltd.; Shanghai Fukong Hualong Microsystem Technology Co., Ltd.; Shanghai Fuwei Xunjie Digital Technology Co., Ltd.; and Sino IC Technology Co., Ltd., under the destination of China, and Shanghai Fudan Microelectronics (HK) Co., Ltd. under the destinations of China, Singapore, and Taiwan, to the Entity List. These entities are added for acquiring and attempting to acquire U.S.-origin items in support of China's military modernization, for participating in China's advanced computing and integrated circuit manufacturing and distribution sectors, and directly supplying the military, government, and security apparatus of China. These entities are added with a license requirement for all items subject to the EAR. They are added with a license review policy of presumption of denial.

The ERC has further determined that Shanghai Fudan Microelectronics Co., Ltd. and Sino IC Technology Co., Ltd. will receive a footnote 4 designation. These entities are involved in the production of high-performance computing (HPC) chips, including for artificial intelligence and other dual-use applications. Additionally, Shanghai Fudan Microelectronics Co., Ltd. has supplied technology to Russian military end users. For purposes of the license requirements applicable to these entities, “items subject to the EAR” include foreign-produced items described in § 734.9(e)(2) of the EAR.

The ERC determined to add AR Sales Pvt Ltd., under the destination of India, to the Entity List. This addition is being made because the entity has diverted or attempted to divert U.S.-origin items to Russia without prior authorization from BIS. In addition, the entity has engaged in dilatory, evasive, or misleading behavior regarding the importation of U.S.-origin items that effectively prevented end-use checks (EUCs) from occurring or made the EUCs inaccurate. A license is required for all items subject to the EAR. License applications will be reviewed under a presumption of denial.

The ERC determined to add Atempo Proje Taahhüt Ses ve Görüntü Sistemleri Anonim Şirketi İstanbul Şubesi (Atempo); EB Teknoloji Sistemleri Anonım Şirketi (EB Teknoloji); and Dentun Elektronik, all under the destination of Turkey, to the Entity List. These companies have diverted or attempted to divert controlled U.S.-origin items to Russia without prior authorization from BIS. Dentun Elektronik has exported U.S.-origin Common High Priority List (CHPL) electronics to Russia and repeatedly engaged in evasive and dilatory conduct that prevented a BIS EUC from occurring. Moreover, EB Teknoloji, in conjunction with Atempo, is engaged in concealing shipments of Tier 2 CHPL U.S.-origin goods to Russian entities. These items are primarily electronic components that have been retrieved from Russian weapons found on the battlefield or have been identified as essential items for Russia to manufacture its own military equipment. The ERC has determined that, due to their significant risk of involvement in the supply or diversion of items subject to the EAR to procurement networks for Russia's defense industry or intelligence services, two of these entities, Atempo and EB Teknoloji, qualify as Russian Procurement Entities under § 734.9(g) of the EAR and are receiving a footnote 3 designation. A footnote 3 designation subjects these entities to the Russia/Belarus-Military End User and Procurement FDP rule, detailed in § 734.9(g). These entities are added with a license requirement for all items subject to the EAR. These applications will be reviewed under a policy of denial.

The ERC determined to add one entity to the Entity List: Smart Mail Services under the destinations of Iran and the United Arab Emirates. This addition is being made because the U.S. government has identified this entity as a facilitator of the illicit transshipment network of Hossein Hatefi Ardakani. The Department of the Treasury's Office of Foreign Assets Control designated Ardakani on December 19, 2023, for having provided, or attempted to provide, financial, material, technological or other support for, or goods or services in support of, the Islamic Revolutionary Guard Corps Aerospace Force Self Sufficiency Jihad Organization. A license is required for all items subject to the EAR. License applications will be reviewed under a presumption of denial.

The ERC determined to add Hua Ke Supply Chain (HK) Limited; Hua Ke Logistics (HK) Limited; and Shenzhen Xinlikang Supply Chain Management Co., Limited, under the destination of China, to the Entity List. These entities are added for their involvement in the diversion of dual-use items in support of sanctioned entities, including the Iranian military. These entities will be added with a license requirement for all items subject to the EAR and licenses will be reviewed under a presumption of denial.

The ERC determined to add HAS General Trading LLC, under the destination of the UAE, to the Entity List for engaging in the export and attempted export of items on the Commerce Control List (CCL) from the U.S. to Iran and Russia through the UAE, in apparent violation of the Iranian Transactions and Sanctions Regulations (ITSR, 31 CFR part 560) and the EAR. The entity is added with a license requirement for all items subject to the EAR. License applications will be reviewed with a presumption of denial.

The ERC determined to add Aerospace Information Research Institute, Chinese Academy of Sciences, under the destination of China, to the Entity List. Specifically, this entity is being added for its connections to companies that support China's High Altitude Balloon program. This entity will be added with a license requirement for all items subject to the EAR and licenses will be reviewed under a presumption of denial. Licenses will be reviewed on a case-by-case basis for items for U.S. government supported use of U.S. land remote sensing satellite data, under § 740.11(b). This license requirement may be overcome by License Exception GOV under § 740.11(b).

The ERC determined to add GMC Semiconductor Technology (Wuxi) Co., Ltd.; and Jicun Semiconductor Technology (Shanghai) Co., Ltd., under the destination of China, to the Entity List. These additions are being made because of the entities' acquiring of U.S.-origin items for diversion to parties on the Entity List. Specifically, these entities acquired U.S. origin semiconductor manufacturing equipment for two Entity List parties, SMIC Northern Integrated Circuit Manufacturing (Beijing) Co., Ltd. and Semiconductor Manufacturing International (Beijing) Corporation, without the requisite license or authorization from BIS (see 85 FR 83420, Dec. 22, 2020). A license is required for all items subject to the EAR for these entities; license applications will be reviewed under a presumption of denial.

The ERC determined to add Beijing Tianyi Huiyuan Biotechnology Co., Ltd.; Beijing Tsingke Biotech Co., Ltd.; and Sangon Biotech (Shanghai) Co., Ltd., under the destination of China, to the Entity List. These entities pose an unacceptable risk of using or diverting U.S. origin items for the People's Liberation Army (PLA) Academy of Military Medical Sciences (AMMS). These entities will be added with a license requirement for all items subject to the EAR and licenses will be reviewed under a presumption of denial.

The ERC determined to add Shanghai Suochen Information Technology Co., Ltd.; and Hong Kong DEMX Co., Ltd., under the destination of China, to the Entity List. These additions are being made because these entities develop computer-aided engineering software for key customers in the Chinese military-industrial complex, including those on the BIS Entity List. These entities are added with a license requirement for all items subject to the EAR and a license review policy of presumption of denial.

The ERC determined to add Changsha NetForward Electronic Technology Co., Ltd.; Changzhou NetForward Microelectronics Co., Ltd.; Chengdu NetForward Microelectronics Co., Ltd.; and Shenzhen NetForward Microelectronics Co., Ltd., all under the destination of China, to the Entity List. These additions are being made because they pose a risk of circumvention of export controls and diversion to entity-listed parties. These entities will be added with a license requirement for all items subject to the EAR and licenses will be reviewed under a presumption of denial.

For the reasons described above, this final rule adds the following 32 entities to the Entity List and includes, where appropriate, aliases:

China

• Aerospace Information Research Institute, Chinese Academy of Sciences,

• Beijing Fudan Microelectronics Technology Co., Ltd.,

• Beijing Tianyi Huiyuan Biotechnology Co., Ltd.,

• Beijing Tsingke Biotech Co., Ltd.,

• Changsha NetForward Electronic Technology Co. Ltd.,

• Changzhou Netforward Microelectronics Co., Ltd.,

• Chengdu NetForward Microelectronics Co., Ltd.,

• Chinese Academy of Sciences, National Time Service Center,

• GMC Semiconductor Technology (Wuxi) Co., Ltd.,

• Hong Kong DEMX Co., Ltd.,

• Hua Ke Logistics (HK) Limited,

• Hua Ke Supply Chain (HK) Limited,

• Jicun Semiconductor Technology (Shanghai) Co., Ltd.,

• Sangon Biotech (Shanghai) Co., Ltd.,

• Shanghai Fudan Microelectronics Co., Ltd.,

• Shanghai Fudan Microelectronics (HK) Co., Ltd.,

• Shanghai Fukong Hualong Microsystem Technology Co., Ltd.,

• Shanghai Fuwei Xunjie Digital Technology Co., Ltd.,

• Shanghai Suochen Information Technology Co., Ltd.,

• Shenzhen Fudan Microelectronics Co., Ltd.,

• Shenzhen NetForward Microelectronics Co., Ltd.,

• Shenzhen Xinlikang Supply Chain Management Co., Limited, and

• Sino IC Technology Co., Ltd.

India

• AR Sales Pvt Ltd.

Iran

• Smart Mail Services.

Singapore

• Shanghai Fudan Microelectronics (HK) Co., Ltd.

Taiwan

• Shanghai Fudan Microelectronics (HK) Co., Ltd.

Turkey

• Atempo Proje Taahhüt Ses ve Görüntü Sistemleri Anonim Şirketi İstanbul Şubesi,

• Dentun Elektronik, and

• EB Teknoloji Sistemleri Anonim Şirketi.

United Arab Emirates

• HAS General Trading LLC, and

• Smart Mail Services.

Revision to an Entry on the Entity List

The ERC determined to remove Intertech Rus LLC addresses of d. 27 str. 2 etazh/pom./kom. 2/IV/1-3,5-25, ul. Elektrozavodskaya Moscow, 107023 Russian Federation and 8, 2nd Brestskaya str., 10th Floor 125047, Moscow Russia from the Entity List based on the review the ERC conducted in accordance with procedures described in supplement no. 5 to part 744 of the EAR.

Corrections to Entries on the Entity List

This final rule revises twenty-seven entries on the Entity List consisting of three entries under Belarus, 11 entries under China, one entry under Iran, one entry under Pakistan, nine entries under Russia, and two entries under Turkey to correct typographical errors in the alias, address, license requirements, Federal Register citation, or punctuation.

Belarus

“Belmicrosystems Research and Design Center,” first added to the Entity List on June 28, 2010 (75 FR 36516); “SOE Semiconductor Devices Factory,” first added to the Entity List on June 28, 2010 (75 FR 36516); and “Vasili Kuntsevich,” first added to the Entity List on June 28, 2010 (75 FR 36516).

China

“Allchips Limited,” first added to the Entity List on August 27, 2024 (89 FR 68548); “Beijing E-science Co., Ltd.,” first added to the Entity List on July 12, 2021 (86 FR 36499); “Beijing Leike Defense Technology Co., Ltd.,” first added to the Entity List on May 9, 2024 (89 FR 41888, May 14, 2024); “China Electronics Technology Group Corporation 52nd Research Institute,” first added to the Entity List on December 21, 2021 (86 FR 71559); Furuida Heilongjiang Supply Chain Management Co., Ltd.,” first added to the Entity List on August 27, 2024 (89 FR 68548); “Harbin Institute of Technology,” first added to the Entity List on June 5, 2020 (85 FR 34497); “Hexin Xingtong Technology (Beijing) Co., Ltd.,” first added to the Entity List on May 9, 2024 (89 FR 41888, May 14, 2024); “Nanjing Colpak Mechanical Equipment Co., Ltd.,” first added to the Entity List on March 2, 2023 (88 FR 13675, March 6, 2023); “Northwestern Polytechnical University,” first added to the Entity List on May 14, 2001 (66 FR 24266); “Onstar Electronics Co. Ltd.,” first added to the Entity List on October 6, 2023 (88 FR 70353, October 11, 2023); and “Shenzhen Shunjinxin Import & Export Co. Ltd.,” first added to the Entity List on September 22, 2020 (85 FR 59421).

Iran

“General Electronic,” first added to the Entity List on August 27, 2024 (89 FR 68548).

Pakistan

“AHD International,” first added to the Entity List on March 22, 2018 (83 FR 12479).

Russia

“Daltransgaz, OAO,” first added to the Entity List on September 7, 2016 (81 FR 61601); “Federal State Enterprise Perm Powder Plant,” first added to the Entity List on August 27, 2024 (89 FR 68548); “Joint Stock Company ODK-Klimov,” first added to the Entity List on August 27, 2024 (89 FR 68548); “Limited Liability Company Analytical Manufactory,” first added to the Entity List on August 27, 2024 (89 FR 68548); “Limited Liability Company Eluent Laboratories,” August 27, 2024 (89 FR 68548); “Limited Liability Company Medstandart,” first added to the Entity List on August 27, 2024 (89 FR 68548); “Limited Liability Company Rusmedtorg,” first added to the Entity List on August 27, 2024 (89 FR 68548); “LLC Volgogradpromproyekt,” first added to the Entity List on June 18, 2024 (89 FR 51652); and “Public Joint Stock Company UEC-Ufa Engine Industrial Association,” first added to the Entity List on August 27, 2024 (89 FR 68548).

Turkey

“Biopharmist Medikal Urunler Dis Ticaret LTD STI,” first added to the Entity List on August 27, 2024 (89 FR 68548) and “BuyBest Electronic,” first added to the Entity List on August 27, 2024 (89 FR 68548).

Savings Clause

Shipments of items removed from eligibility for a License Exception or export, reexport, or transfer (in-country) without a license (NLR) as a result of this regulatory action that were en route aboard a carrier to a port of export, reexport, or transfer (in-country), on September 12, 2025, pursuant to actual orders for export, reexport, or transfer (in-country) to or within a foreign destination, may proceed to that destination under the previous eligibility for a License Exception or export, reexport, or transfer (in-country) without a license (NLR), provided the export, reexport, or transfer (in-country) is completed no later than on October 14, 2025.

Export Control Reform Act of 2018

On August 13, 2018, the President signed into law the John S. McCain National Defense Authorization Act for Fiscal Year 2019, which included the Export Control Reform Act of 2018 (ECRA) (50 U.S.C. 4801-4852). ECRA provides the legal basis for BIS's principal authorities and serves as the authority under which BIS issues this rule. In particular, Section 1753 of ECRA (50 U.S.C. 4812) authorizes the regulation of exports, reexports, and transfers (in-country) of items subject to U.S. jurisdiction. Further, Section 1754(a)(1)-(16) of ECRA (50 U.S.C. 4813(a)(1)-(16)) authorizes, inter alia, establishing and maintaining a list of foreign persons and end-uses that are determined to be a threat to the national security and foreign policy of the United States pursuant to the policy set forth in Section 1752(2)(A), and restricting exports, reexports, and in-country transfers of any controlled items to any foreign person or end-use so listed; apprising the public of changes in policy, regulations, and procedures; and any other action necessary to carry out ECRA that is not otherwise prohibited by law. Pursuant to Section 1762(a) of ECRA (50 U.S.C. 4821(a)), these changes can be imposed in a final rule without prior notice and comment.

Rulemaking Requirements

1. This rule has been determined to be not significant for purposes of Executive Order 12866. This final rule is not a regulatory action pursuant to E.O. 14192 because it is not a significant rule under E.O. 12866.

2. Notwithstanding any other provision of law, no person is required to respond to or be subject to a penalty for failure to comply with a collection of information, subject to the requirements of the Paperwork Reduction Act of 1995 (44 U.S.C. 3501 et seq.) (PRA), unless that collection of information displays a currently valid Office of Management and Budget (OMB) Control Number. This regulation involves an information collection approved by OMB under control number 0694-0088, Simplified Network Application Processing System. BIS does not anticipate a change to the burden hours associated with this collection as a result of this rule. Information regarding the collection, including all supporting materials, can be accessed at: https://www.reginfo.gov/public/do/PRAMain.

3. This rule does not contain policies with federalism implications as that term is defined in Executive Order 13132.

4. Pursuant to section 1762 of the Export Control Reform Act of 2018, this action is exempt from the Administrative Procedure Act (5 U.S.C. 553) requirements for notice of proposed rulemaking, opportunity for public participation, and delay in effective date.

5. Because a notice of proposed rulemaking and an opportunity for public comment are not required to be given for this rule by 5 U.S.C. 553, or by any other law, the analytical requirements of the Regulatory Flexibility Act (5 U.S.C. 601, et seq.), are not applicable. Accordingly, no regulatory flexibility analysis is required, and none has been prepared.

List of Subjects in 15 CFR Part 744

Exports, Reporting and recordkeeping requirements, Terrorism.

Accordingly, part 744 of the Export Administration Regulations (15 CFR parts 730-774) is amended as follows:

PART 744—CONTROL POLICY: END-USER AND END-USE BASED

1. The authority citation for 15 CFR part 744 is revised to read as follows:

Authority: 50 U.S.C. 4801-4852; 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of September 18, 2024, 89 FR 77011 (September 20, 2024); Notice of November 7, 2024, 89 FR 88867 (November 8, 2024); Notice of August 4, 2025, 90 FR 37999 (August 6, 2025).

2. Supplement no. 4 to part 744 is amended by:

a. Under BELARUS, by revising the entries for “Belmicrosystems Research and Design Center;” “SOE Semiconductor Devices Factory;” and “Vasili Kuntsevich.”

b. Under CHINA, PEOPLE'S REPUBLIC OF, by:

i. Adding in alphabetical order, an entry for “Aerospace Information Research Institute, Chinese Academy of Sciences;”

ii. Revising the entries for “Allchips Limited;” and “Beijing E-science Co., Ltd.;”

iii. Adding in alphabetical order, an entry for “Beijing Fudan Microelectronics Technology Co., Ltd.;”

iv. Revising the entry for “Beijing Leike Defense Technology Co., Ltd.;”

v. Adding in alphabetical order, entries for “Beijing Tianyi Huiyuan Biotechnology Co., Ltd.;” “Beijing Tsingke Biotech Co., Ltd.;” “Changsha NetForward Electronic Technology Co. Ltd.;” Changzhou NetForward Microelectronics Co., Ltd.;” and “Chengdu NetForward Microelectronics Co., Ltd.;”

vi. Revising the entry for “China Electronics Technology Group Corporation 52nd Research Institute;”

vii. Adding in alphabetical order, an entry for “Chinese Academy of Sciences, National Time Service Center;”

viii. Revising the entry for “Furuida Heilongjiang Supply Chain Management Co., Ltd.;”

ix. Adding in alphabetical order, an entry for “GMC Semiconductor Technology (Wuxi) Co., Ltd.;”

x. Revising the entry for “Harbin Institute of Technology;”

xi. Revising the entry for “Hexin Xingtong Technology (Beijing) Co., Ltd.;”

xii. Adding in alphabetical order, entries for “Hong Kong DEMX Co., Ltd.;” “Hua Ke Logistics (HK) Limited;” “Hua Ke Supply Chain (HK) Limited;” and “Jicun Semiconductor Technology (Shanghai) Co., Ltd.;”

xiii. Revising the entry for “Nanjing Colpak Mechanical Equipment Co., Ltd.;”

xiv. Revising the entry for “Northwestern Polytechnical University;”

xv. Revising the entry for “Onstar Electronics Co. Ltd.;”

xvi. Adding in alphabetical order, entries for “Sangon Biotech (Shanghai) Co., Ltd.;” “Shanghai Fudan Microelectronics Co., Ltd.;” “Shanghai Fudan Microelectronics (HK) Co., Ltd.;” “Shanghai Fukong Hualong Microsystem Technology Co., Ltd.;” “Shanghai Fuwei Xunjie Digital Technology Co., Ltd.;” “Shanghai Suochen Information Technology Co., Ltd.;” “Shenzhen Fudan Microelectronics Co., Ltd.;” and “Shenzhen NetForward Microelectronics Co., Ltd.;”

xvii. Revising the entry for “Shenzhen Shunjinxin Import & Export Co. Ltd.,” and

xviii. Adding in alphabetical order, entries for “Shenzhen Xinlikang Supply Chain Management Co., Limited;” and “Sino IC Technology Co., Ltd.”

c. Under INDIA, by adding in alphabetical order, an entry for “AR Sales Pvt Ltd.”

d. Under IRAN, by:

i. Revising the entry for “General Electronic;” and

ii. Adding in alphabetical order, an entry for “Smart Mail Services.”

e. Under PAKISTAN, by revising the entry for “AHD International.”

f. Under RUSSIA, by:

i. Revising the entry for “Daltransgaz, OAO;”

ii. Revising the entry for “Federal State Enterprise Perm Powder Plant;”

iii. Revising the entry for “Intertech Rus LLC;”

iv. Revising the entry for “Joint Stock Company ODK-Klimov;” andv. Revising the entries for “Limited Liability Company Analytical Manufactory;” “Limited Liability Company Eluent Laboratories;” “Limited Liability Company Medstandart;” and “Limited Liability Company Rusmedtorg;”

vi. Revising the entry for “LLC Volgogradpromproyekt;” and

vii. Revising the entry for “Public Joint Stock Company UEC-Ufa Engine Industrial Association.”

g. Under SINGAPORE by adding in alphabetical order, an entry “Shanghai Fudan Microelectronics (HK) Co., Ltd.”

h. Under TAIWAN by adding in alphabetical order, an entry for “Shanghai Fudan Microelectronics (HK) Co., Ltd.”

i. Under TURKEY, by:

i. Adding in alphabetical order, an entry for “Atempo Proje Taahhüt Ses ve Görüntü Sistemleri Anonim Şirketi İstanbul Şubesi;”

ii. Revising the entries for “Biopharmist Medikal Urunler Dis Ticaret LTD STI;” and “BuyBest Electronic;”

iii. Adding in alphabetical order, entries for “Dentun Elektronik;” and “EB Teknoloji Sistemleri Anonim Şirketi;” and

j. Under the United Arab Emirates, by adding in alphabetical order, entries for “HAS General Trading LLC;” and “Smart Mail Services.”

The additions and revisions read as follows:

Supplement No. 4 to Part 744—Entity List

* * * * *

Country | Entity | License requirement | License review policy | Federal Register citation
* * * * * * *
BELARUS | * * * * * *
| Belmicrosystems Research and Design Center, Office 313, 12 Korzhenevsky Street, 220108 Minsk, Republic of Belarus; and Korjenevsky Str., 12, Minsk, 220108, Republic of Belarus; and 12, Korzhenevskogo Str., Minsk, 220108, Belarus. | For all items subject to the EAR. (See § 744.11 of the EAR). | Presumption of denial | 75 FR 36516, 6/28/10. 77 FR 58006, 9/19/12. 90 FR [INSERT FR PAGE NUMBER] 9/16/25.
| * * * * * *
| SOE Semiconductor Devices Factory, Office 313, 12 Korzhenevsky Street, 220108 Minsk, Republic of Belarus; and Korjenevsky Str., 12, Minsk, 220108, Belarus; and 12, Korzhenevskogo Str., Minsk, 220108, Belarus. | For all items subject to the EAR. (See § 744.11 of the EAR). | Presumption of denial | 75 FR 36516, 6/28/10. 77 FR 58006, 9/19/12. 90 FR [INSERT FR PAGE NUMBER] 9/16/25.
| * * * * * *
| Vasili Kuntsevich, Office 313, 12 Korzhenevsky Street, 220108 Minsk, Republic of Belarus; and Korjenevsky Str., 12, Minsk, 220108, Republic of Belarus; and 12, Korzhenevskogo Str., Minsk, 220108, Belarus. | For all items subject to the EAR. (See § 744.11 of the EAR). | Presumption of denial | 75 FR 36516, 6/28/10. 77 FR 58006, 9/19/12. 90 FR [INSERT FR PAGE NUMBER] 9/16/25.
* * * * * * *
CHINA, PEOPLE'S REPUBLIC OF | * * * * * *
| Aerospace Information Research Institute, Chinese Academy of Sciences, a.k.a., the following sixteen aliases: —AIRI; —Institute of Aeronautics and Astronautics; —Academy of Aerospace Sciences; —The Institute of Electronics, Chinese Academy of Sciences; —IECAS; —The Institute of Remote Sensing and Digital Earth, Chinese Academy of Sciences; —RADI; —Academy of Optoelectronics, Chinese Academy of Sciences; —AOE; —AIRCAS; —The Center for Earth Observation and Digital Earth, Chinese Academy of Sciences; —CEODE; —The Remote Sensing Satellite Ground Station, Chinese Academy of Sciences; —The Center for Airborne Remote Sensing, Chinese Academy of Sciences; —The Laboratory of Digital Earth Sciences, Chinese Academy of Sciences; and —CAS Institute of Aerospace Information Innovation. No. 9, Dengzhuang South Road, Beijing, China; and No. 19, North 4th Ring Road, Beijing, China; and Datun Road 3, Chaoyang District, Beijing, China; and CC35, South Jinhuluo Road, Miyun District, Beijing, China; and No. 5, Yanqi East 2nd Road, Beijing, China; and Fenglin Oasis, Datun Road, Chaoyang District, Beijing, China. | For all items subject to the EAR. (See § 744.11 of the EAR). This license requirement may be overcome by License Exception GOV under § 740.11(b) when used by the U.S Geological Survey. | Presumption of denial | 90 FR [INSERT FR PAGE NUMBER] 9/16/25.
| * * * * * *
| Allchips Limited, a.k.a., the following fifteen aliases: —Shenzhen Allchips Co., Ltd; —Allchips Group Limited; —Shenzhen Yingzhicheng Information Technology Co., Ltd; —Shenzhen Yingyuan Zhizao Digital Technology Co., Ltd; —Shenzhen Yingke Digital Technology Co., Ltd; —Shenzhen Xinqiqi Technology Co., Ltd; —Shenzhen Xinwuzhong Technology Co., Ltd; —Zhejiang Yingkepai Digital Technology Co., Ltd; —Shenzhen Yingjie Wisdom Supply Chain Co., Ltd; —Shenzhen Yingjie Technology Co., Ltd; —Shenzhen Forsea Allchips Information & Technology Co., Ltd; —Shenzhen Qianhai Hard City Information Technology Co., Ltd; —Shenzhen Qianhai Yingzhicheng Information Technology Company Limited; —PCBA Online; and —YYFab. 20th Floor, E Times, No. 159 Heng Road, North of Pingji Avenue, Longgang District, Shenzhen, Guangdong, China; and Room 806, 8/F Hang Bong Commercial Centre Jordan, Kowloon, Hong Kong; and 902, Building 3, Shenzhen New Generation Industrial Park, 136 Zhongkang Road, Meidu Community, Meilin Subdistrict, Futian District, Shenzhen, Guangdong, China; and Room 1205, 12th Floor, Siu Wai Industrial Building, 29-33 Wing Hong Street, Kowloon, Hong Kong; and No. 51 Lexin Road, Xinmu Community, Pinghu Subdistrict, Longgang District, Shenzhen, Guangdong, China; and 4th Floor, Tower A, Dongsheng Building, No. 8 Zhongguancun East Road, Haidian District, Beijing, China; and Room 1601, No.238, Jiangchang 3rd Road, Jing'an District, Shanghai, China; and Room 301, 3rd Floor, Pinghu Pioneer Park, Zhongxinbao Group, Fuchengao Community, Pinghu Subdistrict, Longgang District, Shenzhen, Guangdong, China. | For all items subject to the EAR (See §§ 734.9(g),³ 746.8(a)(3), and 744.11 of the EAR). | Policy of denial for all items subject to the EAR. See § 746.8(b) | 89 FR 68548, 8/27/24. 90 FR [INSERT FR PAGE NUMBER] 9/16/25.
| * * * * * *
| Beijing E-science Co., Ltd., a.k.a, the following alias: —Beijing Yanjing Electronics Co., Ltd. No. 9 Jiuxianqiao East Rd, Chaoyang, Beijing, 100015, China; and A36-2 Huayuan Haidian, China. | All items subject to the EAR. (See § 744.11 of the EAR). | Presumption of denial | 86 FR 36499, 7/12/21. 90 FR [INSERT FR PAGE NUMBER] 9/16/25.
| * * * * * *
| Beijing Fudan Microelectronics Technology Co., Ltd., a.k.a., the following two aliases: —Beijing Fudan; and —Beijing Fudan Micro. 423, 4th Floor, No. 1 Qinglong Hutong, Dongcheng District, Beijing, China. | For all items subject to the EAR (See § 744.11 of the EAR). | Presumption of denial | 90 FR [INSERT FR PAGE NUMBER] 9/16/25.
| * * * * * *
| Beijing Leike Defense Technology Co., Ltd., a.k.a., the following two aliases: —Rayco Defense; and —Reco Defense. Floor 6, Building 5, Yard No. 2, West Third Ring North Road, Haidian District, Beijing, China; and South of Jianhua Road, Jiandong Village, Lijia Town, Wujin District, Changzhou, Jiangsu, China; and 3rd Floor, Building 5, Lu Xun Cultural and Creative Park, No. 6 Yuanda South Street, Haidian District, Beijing, China. | For all items subject to the EAR. (See § 744.11 of the EAR). | Presumption of denial | 89 FR 41888, 5/14/24. 90 FR [INSERT FR PAGE NUMBER] 9/16/25.
| * * * * * *
| Beijing Tianyi Huiyuan Biotechnology Co., Ltd., a.k.a., the following two aliases: —Tianyi Huiyuan; and —DNA 1953. Building 2, No. 8 Hangfeng Road, Beijing, China | For all items subject to the EAR. (See § 744.11 of the EAR). | Presumption of denial | 90 FR [INSERT FR PAGE NUMBER] 9/16/25.
| * * * * * *
| Beijing Tsingke Biotech Co., Ltd., a.k.a., the following two aliases: —Beijing Qingke Biotechnology Co., Ltd.; and —Tsingke Biotechnology Co., Ltd. 6th Floor, Building 3, No. 105, Jinghai 3rd Road, Beijing, China; and Room 401, Building 5, Jinghai 4th Road, Beijing, China; and Xiangneng Building, No. 315, Yinpen South Road, Changsha, China; and Building B, No. 2, Xiyuan 8th Road, Hangzhou, China; and 5th Floor, Building 2, No. 9 Qiande Road, Nanjing, China; and Building 11, Jinan Biopharmaceutical Port (Central District), No. 30766 Jingshidong Road, Jinan, China; and Building 2, Courtyard 5, Gaoxin Fifth Street, Beijing, China; and Building 18, Biopharmaceutical Industry Park, No. 21 Chaoqian Road, Suzhou, China; and Building 2, No. 2440 Pingliang Road, Shanghai, China; and Building 1, No. 33 Jinzhou North Road, Fuzhou, China; and Building 3, No. 6 Xinchuang Road, Tianjin, China; and Building C10, No. 199 Haiyu Middle Line, Haikou, China; and Room 701, Experimental Building, Zhengxin Science and Technology Park, No. 2 Gaohua Road, Nanning, China; and No. 871 Longquan Road, Kunming, China; and B1 Building, Block B, Qingdao Industrial Technology Research Institute, No. 17 Songyuan Road, Qingdao, China; and 5th Floor, Building C, Innovation and Entrepreneurship Center, No. 8989 Shangji Road, Xi'an, China; and Room 201-76, No. 115 Long'an Avenue, Chongqing, China; and Building 4, No. 999 Jiangyue Road, Shanghai, China; and Building 6, No. 9 Gaokeyuan 3rd Road, Wuhan East Lake New Technology Development Zone, Wuhan, China; and Building 1, No. 5 Keyuan South Road, Chengdu, China; and Xiangneng Building, No. 317 Yinpennan Road, Changsha, China; and Building 1, No. 188 Kaiyuan Avenue, Guangzhou, China; and No. E5, Henan University Science and Technology Park, No. 11 Changchun Road, Zhengzhou, China. | For all items subject to the EAR. (See § 744.11 of the EAR). | Presumption of denial | 90 FR [INSERT FR PAGE NUMBER] 9/16/25.
| * * * * * *
| Changsha NetForward Electronic Technology Co. Ltd., a.k.a., the following two aliases: —Changsha Nanfei Electronic Technology Co., Ltd.; and —Changsha Netforward Electronic Technology Co. Ltd. Room No. 1007, Floor 10, Building No. 3, Huachuang International Square, Section 1, No. 109, Furong M. Road, Wujialing Sub-District, Kaifu Dist, Changsha, Hunan, 410000, China; and Jinxia Future Science and Technology City, Changsha, 410000, China. | For all items subject to the EAR (See § 744.11 of the EAR). | Presumption of denial | 90 FR [INSERT FR PAGE NUMBER] 9/16/25.
| * * * * * *
| Changzhou NetForward Microelectronics Co., Ltd., a.k.a., the following two aliases: —Changzhou Nanfei Microelectronics Co., Ltd.; and —Changzhou Netforward Microelectronics Co., Ltd. Room 525, No. 18, Xinya Road, Wujin Guojia High-Tech Industrial Development Zone, Changzhou, Jiangsu, 213000, China; and Room 309-1, Floor 3, Building 5, No. 456, Hongcao Road, Xuhui District Shanghai, Shanghai, 200000, China; and 401, 4/F, No. 2, Haidian East 3rd Street, Haidian District, Beijing, 100000, China; and No. 25 Gaoxin North 6 Road, North District Science Park, Shenzhen, 518054, China. | For all items subject to the EAR (See § 744.11 of the EAR). | Presumption of denial | 90 FR [INSERT FR PAGE NUMBER] 9/16/25.
| * * * * * *
| Chengdu NetForward Microelectronics Co., Ltd., a.k.a., the following two aliases: —Chengdu Nanfei Microelectronics Co., Ltd.; and —Chengdu Netforward Microelectronics Co., Ltd., No. Ol-02-202204056 Auxiliary, No. 733, Hupan Road East Section, Xinglong Sub-District, Tianfu New District, China Pilot Free Trade Zone, Chengdu, Sichuan, 610000, China. | For all items subject to the EAR (See § 744.11 of the EAR). | Presumption of denial | 90 FR [INSERT FR PAGE NUMBER] 9/16/25.
| * * * * * *
| China Electronics Technology Group Corporation 52nd Research Institute, a.k.a., the following three aliases: —CETC 52; —CETHIK Group; and —China Electronics Technology HIK Group Co., Ltd. 198 Aicheng Street, Wuchang Avenue, Yuhang District, Hangzhou; and No. 36, Macheng Road, Xihu District, Hangzhou; and No. 1500, Wenyi West Road, Yuhang District; and No. 9 Lixin Road, Qinghai Lake, Hangzhou; and No. 9 Wenfu Road, Hangzhou, China. | All items subject to the EAR. (See § 744.11 of the EAR). | Presumption of denial | 86 FR 71559, 12/17/21. 90 FR [INSERT FR PAGE NUMBER] 9/16/25.
| * * * * * *
| Chinese Academy of Sciences, National Time Service Center, a.k.a., the following three aliases: —NTSC; —NTS; and —Shaanxi Astronomical Observatory of the Chinese Academy of Sciences. No. 3, Shuyuan East Road, Xi'an Shaanxi, 710600, China; and P.O. Box 18, Lintong District, Xi'an, China. | For all items subject to the EAR. (See § 744.11 of the EAR). | Presumption of denial | 90 FR [INSERT FR PAGE NUMBER] 9/16/25.
| * * * * * *
| Furuida Heilongjiang Supply Chain Management Co., Ltd., Room 803-773, Floor 8, Building 10, Harbin Songbei Technology Chuangxin Industrial Zone, 3043 Zhigu 2nd Street, Songbei District, Harbin, Heilongjiang, 150000, China. | For all items subject to the EAR (See §§ 734.9(g),³ 746.8(a)(3), and 744.11 of the EAR). | Policy of denial for all items subject to the EAR. See § 746.8(b) | 89 FR 68548, 8/27/24. 90 FR [INSERT FR PAGE NUMBER] 9/16/25.
| * * * * * *
| GMC Semiconductor Technology (Wuxi) Co., Ltd., a.k.a., the following five aliases: —GMCs; —GMC Semiconductor; —GMC Semitech; —GMC Semitech Co., Ltd.; and —Jimuxi Semiconductor Technology Co., Ltd. No. 1 Jingxiang Road, Xibei Town, Xishan District, Wuxi, Jiangsu, China; and No. 326 Room 22708, Unit 2, Building 1 (B), Yangyang International, No. 132, Zhuque Street, Yanta District, Xi'an City, Shaanxi Province, China; and Building 10, No. 860, Xinyang Road, Lingang New Area, China (Shanghai) Pilot Free Trade Zone, China; and Room 1299, 1st Floor, No. 9 Cainan Road, Caiyu Town, Daxing District, Beijing, China; and Room 311, Office A, 3rd Floor, Reader New Media Building, No. 105, Wensan Road, National Animation Park, Sino-Singapore Eco-city, Binhai New Area, Tianjin, China; and No. 20, Dinglan Road, Funing High-tech Industrial Development Zong Yancheng, Jiangsu Province, China; and Room 509-1, Block A, Floor 1-5, Building 1, Smart Grid Industrial Park, No. 22 Gaoxin 4th Road, Donghu New Technology Development Zone, Wuhan City, Hubei Province, China; and No. 4-12, Jindong Commercial Street, Xibei District, Wuxi, Jiangsu Province, China. | For all items subject to the EAR. (See § 744.11 of the EAR). | Presumption of denial | 90 FR [INSERT FR PAGE NUMBER] 9/16/25.
| * * * * * *
| —Harbin Institute of Technology, a.k.a., the following nine aliases: —Harbin Institute of Technology, Anshan Industrial & Technology Research Institute; —Harbin Institute of Technology, Chongqing Research Institute; —Harbin Institute of Technology, Huizhou Institute of International Innovation; —Harbin Institute of Technology, Shenzhen Research Institute; —Harbin Institute of Technology, Weihai Institute of Industrial Technology; —Harbin Institute of Technology, Wuhu Robot Industry & Technology Research Institute; —Harbin Institute of Technology, Wuxi Institute of New Materials; —Harbin Institute of Technology, Yibi Industrial Technology Research Institute; and —Harbin Institute of Technology, Yixing Environmental Protection Research Institute. No. 92 Xidazhi Street, Nangang District, Harbin, Heilongjiang, China; and No. 92 West Dazhi Street, Nangang District, Harbin, Heilongjiang, China; and No. 2 West Wenhua Road, Weihai, Shandong, China; and Pingshan 1st Road, Shenzhen, Guangdong, China; and 10th Floor, Block A, Keji South 10 Road, High-tech Zone, Yuehai Street, Nanshan District, Shenzhen, China; and No. 17 Shenzhou Road, Office Building of Product Quality Supervision and Inspection Center of National Industrial Robot, Jiujiang Economic and Technological Development Zone, Wuhu City, China; and No. 2 West Wenhua Road, Weihai City, China; and 501 Lvyuan Road, Environmental Science and Technology Industrial Park, Yixing City, China; and Bei Hui Road, Industrial Transformation Cluster Area, Huishan, Wuxi, China; and Room 302, No. 9 Gangyuan Avenue, Lingang Economic Development Zone, Yibin City, China; and No. 618 Liangjiang Dadao, Longxing Town, Yubei District, Chongqing, China; and Management Committee of Huizhou Tonghu Ecological Wisdom Zone, No. 333 Xinhua Avenue, Zhongkai High-tech Zone, Huizhou City, Guangdong Province, China; and No. 196 Qianshan Zhong Lu, Anshan City, China. | For all items subject to the EAR. (See § 744.11 of the EAR). | Presumption of denial | 85 FR 34497, 6/5/20. 87 FR 62202, 10/13/22. 88 FR 13675, 3/6/23. 90 FR [INSERT FR PAGE NUMBER] 9/16/25.
| * * * * * *
| Hexin Xingtong Technology (Beijing) Co., Ltd., a.k.a., the following two aliases: —Unicorecomm; and —Hexinxingtong Technology (Beijing) Co., Ltd. 3rd Floor, Beidouxingtong Building, No. 7 Fengxian East Road, Haidian District, Beijing, China; and 3F Building 8, No. 912 Bi Bo Road, Shanghai, China. | For all items subject to the EAR. (See § 744.11 of the EAR). | Presumption of denial | 89 FR 41888, 5/14/24. 90 FR [INSERT FR PAGE NUMBER] 9/16/25.
| * * * * * *
| Hong Kong DEMX Co., Ltd., a.k.a., the following one alias: —DEMX Co., Ltd. 302-308 Hennessy Road, C C Wu Building, 21st Floor, Room 2107, Wanchai, Hong Kong. | For all items subject to the EAR (See § 744.11 of the EAR). | Presumption of denial | 90 FR [INSERT FR PAGE NUMBER] 9/16/25.
| * * * * * *
| Hua Ke Logistics (HK) Limited, Rm. G01, G/F, Grandtech Center, 8 OnPing St, Siu Lek Yuen, Sha Tin District, Hong Kong; and Rm 501-502, 5/F, Grandtech Center, 8 On, Ping St, Siu Lek Yuen, Sha Tin District, Hong Kong; and Rm 601, 6/F, Grandtech Center, 8 On Ping St, Siu Lek Yuen, Sha Tin, Hong Kong; and Rm 603, 6/F Grandtech Center, 8 On Ping St, Siu Lek Yuen, Sha Tin, Hong Kong; and Rm 603-605, 6/F, Grandtech Center, 8 On Ping St, Siu Lek Yuen, Sha Tin, Hong Kong. | For all items subject to the EAR. (See § 744.11 of the EAR). | Presumption of denial | 90 FR [INSERT FR PAGE NUMBER] 9/16/25.
| Hua Ke Supply Chain (HK) Limited, Rm G01, G/F, Grandtech Center, 8 On Ping St, Siu Lek Yuen, Sha Tin District, Hong Kong; and Rm 501-502, 5/F, Grandtech Center, 8 On Ping St, Siu Lek Yuen, Sha Tin District, Hong Kong; and Rm 601, 6/F, Grandtech Center, 8 On Ping St, Siu Lek Yuen, Sha Tin District, Hong Kong. | For all items subject to the EAR. (See § 744.11 of the EAR). | Presumption of denial | 90 FR [INSERT FR PAGE NUMBER] 9/16/25.
| * * * * * *
| Jicun Semiconductor Technology (Shanghai) Co., Ltd., a.k.a., the following one alias: —Jicun Semitech (Shanghai) Co., Ltd. Room 115, 1F, No. 45, Feila Road, China (Shanghai) Pilot Free Trade Zone, China; and Building 17, Phase 9, Lingang Intelligent Manufacturing Park, Lingang Fengxian Park, No. 2858, Pingzhuang East Road, Fengxian District, Shanghai, China; and No. 45 Yougu Park, No. 58 Jinhong X, Xibei Town, Xishan, Wuxi, Jiangsu Province, 214192, China; and No. 1 Jingxiang Road, Xibei Town, Xishan District, Wuxi, Jiangsu Province, China. | For all items subject to the EAR. (See § 744.11 of the EAR). | Presumption of denial | 90 FR [INSERT FR PAGE NUMBER] 9/16/25.
| * * * * * *
| Nanjing Colpak Mechanical Equipment Co., Ltd., Office No. 1-128, Front Bungalow, 21 Lanqi Street, Qinhuai District, Najing, Jiangsu, 210000, China. | For all items subject to the EAR. (See § 744.11 of the EAR). | See §§ 744.2(d) and 744.3(d) of the EAR | 88 FR 13675, 3/6/23. 90 FR [INSERT FR PAGE NUMBER] 9/16/25.
| * * * * * *
| Northwestern Polytechnical University, a.k.a. the following ten aliases: —Northwest Polytechnic University; —Northwest Polytechnical University; —Northwestern Polytechnic University; —Northwestern Polytechnical University, Beijing Research Institute; —Northwestern Polytechnical University, Chongqing Innovation Center; —Northwestern Polytechnical University, Collaborative Innovation Center; —Northwestern Polytechnical University, Ningbo Research Institute; —Northwestern Polytechnical University, Qingdao Research Institute; —Northwestern Polytechnical University, Shenzhen Research Institute; and —Northwestern Polytechnical University, Yangtze River Delta Research Institute. 127 Youyi Xilu, Xi'an 710072 Shaanxi, China; and Youyi Xi Lu, Xi'an, Shaanxi, China; and No. 1 Bianjia Cun, Xi'an, China; and West Friendship Rd. 59, Xi'an, China; and 3 10 W Apt 3, Xi'an, China; and Yard 5, Yangfangdian East Road, Haidian District, Beijing, China; and 20th Floor, Block B, Innovation Building, 17 Laodong South Road, Xi'an, China; and 25th Floor, Shenzhen Sanhang Technology Building, Northwestern Polytechnical University, No. 45, Gaoxin South 9th Road, Nanshan District, Shenzhen, China; and Building 4, Phase II, Qingdao Blue Valley Venture Center, Jimo District, Shandong Province, Qingdao City, China; and Lane 218, Qingyi Road, High-tech Zone, Ningbo, China; and 27 Zigang Road, Science and Education New Town, Jiangsu Province, Taicang City, China; and Building A2, Liangjiang Quaker Headquarters City, No. 598 Liangjiang Avenue, Longxing Town, Yubei District, Chongqing, China; and Block A, No. 515 Shennan Road, Minhang District, Shanghai, China. | For all items subject to the EAR. (See § 744.11 of the EAR). | Presumption of denial | 66 FR 24266, 5/14/01. 75 FR 78883, 12/17/10. 77 FR 58006, 9/9/12. 81 FR 64696, 9/20/16. 84 FR 40241, 8/14/19. 87 FR 62202, 10/13/22. 88 FR 13675, 3/6/23. 90 FR [INSERT FR PAGE NUMBER] 9/16/25.
| * * * * * *
| Onstar Electronics Co. Ltd., No. 45 Hoi Yuen Road, Yau Lee Center, 3rd Floor, Unit 83, Kwun Tong, Kowloon, Hong Kong; and Zhonghang Road, Dynamic World Building Room 811, Futian District, Shenzhen, Guangdong, 518031, China. | For all items subject to the EAR. (See §§ 734.9(g),³ 746.8(a)(3), and 744.11 of the EAR). | Policy of denial for all items subject to the EAR. See § 746.8(b) | 88 FR 70353, 10/11/23. 89 FR 87265, 11/1/24. 90 FR [INSERT FR PAGE NUMBER] 9/16/25.
| * * * * * *
| Sangon Biotech (Shanghai) Co., Ltd. a.k.a., the following five aliases: —Shanghai Shenggong Biotechnology Service Co. Ltd.; —Shenggong Biotechnology (Shanghai) Co. Ltd.; —Shenggong Biotechnology; —Sangon Biotech Technology Service Co., Ltd.; and —Shanghai Bioengineering Co., Ltd. No. 698 Xiangmin Road, Shanghai, China; and 695 Xiangmin Road, Shanghai, China. | For all items subject to the EAR. (See § 744.11 of the EAR). | Presumption of denial | 90 FR [INSERT FR PAGE NUMBER] 9/16/25.
| * * * * * *
| Shanghai Fudan Microelectronics Co., Ltd., a.k.a., the following five aliases: —Fudan Micro; —Fudan Microelectronics; —Shanghai Fudan Microelectronics Group Co., Ltd.; —FMSH; and —Shanghai Fudan. No. 220, Handan Rd., Shanghai, China; and Building 4, No. 127, Guotai Road, Yangpu District, Shanghai, China; and Rm. 1901-1904, Fudan University, Science Park, No. 11, Guo Tai, Shanghai, China; and Room 423, Block B, Gehua Building, No. 1 Qinglong Hutong, Dongzhimen North Street, Dongcheng District, Beijing, China; and Room 1303, Century Building, Shengtingyuan Hotel Huaqiang Rd. (North), Shenzhen, China; and 423, 4th Floor, No. 1 Qinglong Hutong, Dongcheng District, Beijing, China and Rooms 2306, 2307, and 2308, Building 1, Block C, Section 1, Chuangzhi Cloud City, Xili Community, Liuxian Avenue, Xili Street, Nanshan District, Shenzhen, China; and No. 1688 North Guoquan Road, Shanghai, China; and No. 3945, Yixian Road, Baoshan, Shanghai, China. | For all items subject to the EAR. (See §§ 734.9(e)(2) and 744.11 of the EAR).⁴ | Presumption of denial. | 90 FR [INSERT FR PAGE NUMBER] 9/16/25.
| Shanghai Fudan Microelectronics (HK) Co., Ltd., a.k.a., the following four aliases: —HK Fudan; —Shanghai Fudan Microelectronics (HK) Limited; —Hong Kong Fudan Microelectronics; and —Shanghai Fudan Microelectronics (Hong Kong) Co., Ltd. Unit 506, 5F., East Ocean Centre 98 Granville Rd., Tsim Sha Tsui East, Kowloon, Hong Kong. (See alternate address under Singapore and Taiwan) | For all items subject to the EAR (See § 744.11 of the EAR). | Presumption of denial | 90 FR [INSERT FR PAGE NUMBER] 9/16/25.
| Shanghai Fukong Hualong Microsystem Technology Co., Ltd., a.k.a., the following two aliases: —Hualong Company; and —FKHL. 618-623, C625-628, Zone C, No. 180, Changjiang South Road, Boashan District, Shanghai, China. | For all items subject to the EAR (See § 744.11 of the EAR). | Presumption of denial | 90 FR [INSERT FR PAGE NUMBER] 9/16/25.
| Shanghai Fuwei Xunjie Digital Technology Co., Ltd., a.k.a., the following five aliases: —Fuwei Xunjie; —FM Swift; —Shanghai Fuwei Swift Digital Technology Co., Ltd.; —Fuwei Swift; and —Shanghai FM Swift Digital Technology Company, Limited. No. 968, 128 Memorial Road, Boashan District, Shanghai, China; and Block B1, Bay Valley Technology Park, No. 1688, Guoquan North Road, Yangpu District, Shanghai, China. | For all items subject to the EAR (See § 744.11 of the EAR). | Presumption of denial | 90 FR [INSERT FR PAGE NUMBER] 9/16/25.
| * * * * * *
| Shanghai Suochen Information Technology Co., Ltd., a.k.a., the following three aliases: —DEMX; —DEMXS; and —Suochen Technology. 27 Xinjinqiao Road, Building 13, 2nd Floor, Pilot Free Trade Zone, Shanghai, China; and 18 Chaoyangmenwai Street, Building A, 21st Floor, Chaoyang District, Beijing, China; and 10 Tuanjie South Road, Building 1, 12th Floor, Room 11206, Unit 1, Gaoxin District, Xi'an, China; and 170-1 Ruanjian Blvd., Building 2, Room 1401, Yuhuatai District, Nanjing, China; and 300 Huaihai Middle Road, K11 Building, 51F, Huangpu District, Shanghai, China; and No. 35 Xueyuan Road, Shining Building, 7th Floor, Room 708, Haidian District, Beijing, China; and Tiansuo Technology Park, Building 2, Room 1601, Yuhuatai District, Jiangsu Province, Nanjing, China; and No. 88 Nanguanzheng Street, Chang'an International Center, Building F, 8th Floor, Unit 102, Shaanxi Province, Xi'an, China; and Hongxing Road, IFS, No. 1, Section 3, Building 3, Room 4007, Sichuan Province, Jinjiang District, Chengdu, China; and No. 1515, Zhongshan Avenue, Building 1, Room 1903, Jiang'an District, Wuhan, China; and IFC, T1 Office Building, 31F, Room 3112, Changsha, Hunan, China. | For all items subject to the EAR (See § 744.11 of the EAR). | Presumption of denial | 90 FR [INSERT FR PAGE NUMBER] 9/16/25.
| * * * * * *
| Shenzhen Fudan Microelectronics Co., Ltd., a.k.a., the following one alias: —Shenzhen Fudan Rooms 2306, 2307, and 2308, Building 1, Block C, Section 1, Chuangzhi Cloud City, Xili Community, Liuxian Avenue, Xili Street, Nanshan District, Shenzhen, China. | For all items subject to the EAR (See § 744.11 of the EAR). | Presumption of denial | 90 FR [INSERT FR PAGE NUMBER] 9/16/25.
| * * * * * *
| Shenzhen NetForward Mircroelectronics Co., Ltd., a.k.a., the following four aliases: —NetForward; —Shenzhen Nanfei Microelectronics Co., Ltd.; —Shenzhen Nanfei Micro-electronic Co., Ltd.; and —Shenzhen Netforward Mircroelectronics Co., Ltd., 2nd Floor, Fengyun Building, No. 25, Gaoxin North 6th Road, Songpingshan Community, Xili Street, Nanshan District, Shenzhen, Guangdong Province, 518054, China; and 19 Lanrun Morili Center, 12 West 2nd Section, Chengdu, China; and Floor 1, Fengyun Technology Building, No.25, Gaoxinbeiliudao, Xili Sub-District, Nanshan District, Shenzhen, Guangdong, 518000, China; and Block B, Building 9, Area G, Qingyang Industrial Headquarters Base, Qingyang District, Chengdu, 610073, China and No. 25, Galaxy Wind Cloud, Gaoxin North 6th Road, Nanshan District, Shenzhen City, Guangdong Province, 518000, China; and No. 809, 8th Floor, Building 17, No. 169 Haichang Road, Huayang Street, Tianfu New Area, Chengdu, Sichuan, 610000, China. | For all items subject to the EAR (See § 744.11 of the EAR). | Presumption of denial | 90 FR [INSERT FR PAGE NUMBER] 9/16/25.
| * * * * * *
| Shenzhen Shunjinxin Import & Export Co. Ltd., a.k.a., the following one alias: —Shenzhen Shunjinxin IMP&Export Co. Ltd. 25H North Door Shenhua Comm. Build., Jiabin Road 2018, Luohu District, Shenzhen, China; and Room 2114, 21/FL Shenhua Commercial Bldg, Luohu District Shenzhen, China, 518001; and Room 815, 8F Zhongzhen Bld., No. 68, Luofang, South Luohu, Shenzhen, China. | For all items subject to the EAR. (See § 744.11 of the EAR). | Presumption of denial | 85 FR 59421, 9/22/20. 90 FR [INSERT FR PAGE NUMBER] 9/16/25.
| * * * * * *
| Shenzhen Xinlikang Supply Chain Management Co., Limited, a.k.a., the following one alias: —Shenzhen Sinlikon Supply Chain Management, Co., Limited. 2001, Xinlikang Intelligent Headquarters Building, No. 2 Taike Road, Meifeng Community, Futian District Shenzhen, Guangdong, 518049, China; and Unit G/01 Grandtech Center, 8 On Ping St, Siu Lek Yuen, Sha Tin District, Hong Kong; and 33rd Floor, Qianhai Xinlikang Building, No. 3044, Xinhai Ave, Nanshan District, Shenzhen, China; and 32-34 Floor, Xinlikang Mansion, No. 3044 Xinhai Road, Qianhai Shenzhen—HK Cooperation Zone, Shenzhen, China; and 36/F Tower A, Neo Building, 6011 Shennan Ave, Shenzhen, China; and Shenzhen Sinlikon Building, No 3044 Nanshan St, Qianhaishenggang Cooperation Area, Shenzhen, China. | For all items subject to the EAR. (See § 744.11 of the EAR). | Presumption of denial | 90 FR [INSERT FR PAGE NUMBER] 9/16/25.
| * * * * * *
| Sino IC Technology Co., Ltd., a.k.a., the following seven aliases: —Sino IC Test; —Shanghai Hualing Integrated Circuit Technology Co., Ltd.; —SinoLink; —Shanghai Enterprise Technology Center; —SINOIC; —Hualing; and —Shanghai Sino-Tech. No. 351, Guoshoujing Road, China (Shanghai) Pilot Free Trade Zone, China. | For all items subject to the EAR. (See §§ 734.9(e)(2) and 744.11 of the EAR).⁴ | Presumption of denial | 90 FR [INSERT FR PAGE NUMBER] 9/16/25.
* * * * * * *
INDIA | * * * * * *
| AR Sales Pvt Ltd., a.k.a., the following five aliases: —AR Sales Private Ltd; —AR Sales Privat Ltd; —A R Sales Private Ltd; —AR Sales; and —Aarushi Sales Private Ltd. Flat 1009, Prakash Deep Building, Tolstoy Road, New Delhi, Delhi, 110001, India; and 479, Mohalla Maharam, Shahdara, New Delhi, Delhi, 110032, India; and 479, Narendra Kumar, Mohalla Maharam, Shahdara, New Delhi, Delhi, 110032, India; and 106, Delhi Development Authority Building, Laxmi Nagar District Center, Nirman Vihar, New Delhi, Delhi, 110092, India. | For all items subject to the EAR. (See § 744.11 of the EAR). | Presumption of denial | 90 FR [INSERT FR PAGE NUMBER] 9/16/25.
* * * * * * *
IRAN | * * * * * *
| General Electronic, a.k.a., the following three aliases: —Digital Electronics Engineering Group; —Delta Electronic; and —Keyhan Electronic. Unit 620, 6th floor, Abbasian Building, after Hafez Bridge, Jomhuri Eslami St., Tehran, Iran; and No.B33, Tavakkol Passage before Hafez St., Jomhouri St., Tehran, Iran; and Unit 22, Second floor, Amjad Passage, between Hafez and Si Tir, Jomhouri St., Tehran, Iran. | For all items subject to the EAR. (See § 744.11 of the EAR). | Presumption of denial | 89 FR 68548, 8/27/24. 90 FR [INSERT FR PAGE NUMBER] 9/16/25.
| * * * * * *
| Smart Mail Services, a.k.a., the following one alias: —Smart Mail Service LLC. Vanak Sq, Negar Tower, Fl 3, Tehran, Iran. (See alternate address under United Arab Emirates.) | For all items subject to the EAR (See § 744.11 of the EAR). | Presumption of denial | 90 FR [INSERT FR PAGE NUMBER] 9/16/25.
* * * * * * *
PAKISTAN | * * * * * *
| AHD International, House 9, Building 9, Business Bay, Phase VII, Bahria Town, Rawalpindi, Pakistan. | For all items subject to the EAR. (See § 744.11 of the EAR). | See § 744.2(d) of the EAR | 88 FR 66273, 9/27/23. 90 FR [INSERT FR PAGE NUMBER] 9/16/25.
* * * * * * *
RUSSIA | * * * * * *
| Daltransgaz, OAO, a.k.a., the following two aliases: —Daltransgaz; and —Otkrytoe Aktsionernoe Obshchestvo `Daltransgaz'. d. 1 ul.Solnechnaya S. Ilinka, Khabarovski Raion Khabarovski krai 680509, Russia. | For all items subject to the EAR when used in projects specified in § 746.8(a)(4) of the EAR. | See § 746.8(b)(2) of the EAR. | 81 FR 61601 preview citation details, 9/7/16. 89 FR 51652, 6/18/24. 90 FR [INSERT FR PAGE NUMBER] 9/16/25.
| * * * * * *
| Federal State Enterprise Perm Powder Plant, a.k.a., the following four aliases: —Federalnoe Kazennoe Predpriyatie Permski Porokhovoi Zavod; —Permski Porokhovoi Zavod; —Perm Powder Plant; and —Perm Gunpowder Mill. 11 Galperina Street, Perm, Perm Region, 614101, Russia; and 6 Avtozavodskaya Street, Perm, Perm Region, 614101, Russia; and 1 Lsvinskaya Street, Perm, Perm Region, 614113, Russia; and 6 Marshala Rybalko Street, Office 19, Perm, Perm Region, 614101, Russia; and 3 Oruzheiny Lane, Building 1, Moscow, Russia; and sad El'niki, Sylva Settlement, Perm Region, 614503, Russia. | For all items subject to the EAR. (See §§ 734.9(g),³ 746.8(a)(3), and 744.21(b) of the EAR). | Policy of denial for all items subject to the EAR apart from food and medicine designated as EAR99, which will be reviewed on a case-by-case basis. See §§ 746.8(b) and 744.21(e) | 89 FR 68548, 8/27/24. 90 FR [INSERT FR PAGE NUMBER] 9/16/25.
| * * * * * *
| Intertech Rus LLC, a.k.a., the following one alias: —Intertek Rus OOO. d. 3 str. 2 pom. 506 kom. 69, ul. Krymski Val Moscow, 119049 Russia. | For all items subject to the EAR (See § 744.11 of the EAR). | See §§ 744.2(d), 744.3(d), and 744.4(d) | 87 FR 38925, 6/30/22. 90 FR [INSERT FR PAGE NUMBER] 9/16/25.
| * * * * * *
| Joint Stock Company ODK-Klimov, a.k.a., the following four aliases: —JSC ODK-Klimov; —Aktsionernoe Obshchestvo ODK-Klimov; —AO ODK-Klimov; and —UEC-Klimov. 11 Kantemirovskaya Street, Building 1, Saint Petersburg, 194100, Russia; and 4A Lenin Place, Arsenev, Primorsky Region, 692335, Russia; and 1 Khorinskaya Street, Ulan-Ude, Republic of Buryatiya, 670009, Russia; and Razdole Building, Priozersk Region, Leningrad Region, 188733, Russia; and Military Unit 35666, Korenovsk, Korenovsk Region, 353180, Russia; and 14 Tetsevskaya Street, Kazan, Republic of Tatarstan, 420085, Russia; and 57 Zapovednaya Street, Saint Petersburg, 194356, Russia; and 283 Bogdana Khmelnitskogo Street, Omsk, Omsk Region, 644021, Russia; and 93 Komsomolski Avenue, Perm, Perm Region, 614010, Russia; and Military Unit 44936, Novaya Zhizn Village, Budennovski Region, 356821, Russia; and 2 Vodnikov Street, Moscow, 125362, Russia; and 6 Berzarina Street, Building 2, Moscow, 127204, Russia. | For all items subject to the EAR. (See §§ 734.9(g),³ 746.8(a)(3), and 744.21(b) of the EAR). | Policy of denial for all items subject to the EAR apart from food and medicine designated as EAR99, which will be reviewed on a case-by-case basis. See §§ 746.8(b) and 744.21(e) | 89 FR 68548, 8/27/24. 90 FR [INSERT FR PAGE NUMBER] 9/16/25.
| * * * * * *
| Limited Liability Company Analytical Manufactory, a.k.a., the following five aliases: —LLC Analytical Manufactory; —Obshchestvo S Organichennio Otyetstvennostyu Analiticheskaya Maufaktura; —OOO Analiticheskaya Maufaktura —Analytical Manufaktory; and —Analytikal Manufactory. 9 Rublevshoe Highway, Floor 1, Room I, Room 10B, Moscow, 121108, Russia. | For all items subject to the EAR (See §§ 734.9(g),³ 746.8(a)(3), and 744.21(b) of the EAR). | Policy of denial for all items subject to the EAR apart from food and medicine designated as EAR99, which will be reviewed on a case-by-case basis. See §§ 746.8(b) and 744.21(e) | 89 FR 68548, 8/27/24. 90 FR [INSERT FR PAGE NUMBER] 9/16/25.
| * * * * * *
| Limited Liability Company Eluent Laboratories, a.k.a., the following five aliases: —LLC Eluent Laboratories; —Obshchestvo S Organichennio Otyetstvennostyu Elyuentlaboratoriz; —OOO Elyuentlaboratoriz; —Elyuentlaboratoriz LTD; and —Elyuent Laboratories. 4 Ivana Franko Street, Building 2, Floor 2, Room N1, Room N27, Moscow, 121108, Russia. | For all items subject to the EAR (See §§ 734.9(g),³ 746.8(a)(3), and 744.21(b) of the EAR). | Policy of denial for all items subject to the EAR apart from food and medicine designated as EAR99, which will be reviewed on a case-by-case basis. See §§ 746.8(b) and 744.21(e) | 89 FR 68548, 8/27/24. 90 FR [INSERT FR PAGE NUMBER] 9/16/25.
| * * * * * *
| Limited Liability Company Medstandart, a.k.a., the following four aliases: —Medstandart, LLC; —Obshchestvo S Organichennio Otyetstvennostyu Medstandart; —Medstandart, OOO; and —Medstandart. 16 Varshayshoe Highway, Building 2, Floor 1, Room I, Room 3, Moscow, 117105, Russia. | For all items subject to the EAR (See §§ 734.9(g),³ 746.8(a)(3), and 744.21(b) of the EAR). | Policy of denial for all items subject to the EAR apart from food and medicine designated as EAR99, which will be reviewed on a case-by-case basis. See §§ 746.8(b) and 744.21(e) | 89 FR 68548, 8/27/24. 90 FR [INSERT FR PAGE NUMBER] 9/16/25.
| * * * * * *
| Limited Liability Company Rusmedtorg, a.k.a., the following four aliases: —LLC Rusmedtorg; —Obshchestvo S Organichennio Otyetstvennostyu Rusmedtorg; —OOO Rusmedtorg; and —Rusmedtorg. 2/21 Lenskaya Street, Floor 5, Room III, Room 2, Moscow, 129327, Russia. | For all items subject to the EAR (See §§ 734.9(g),³ 746.8(a)(3), and 744.21(b) of the EAR). | Policy of denial for all items subject to the EAR apart from food and medicine designated as EAR99, which will be reviewed on a case-by-case basis. See §§ 746.8(b) and 744.21(e) | 89 FR 68548, 8/27/24. 90 FR [INSERT FR PAGE NUMBER] 9/16/25.
| * * * * * *
| LLC Volgogradpromproyekt, a.k.a. the following five aliases: —Obshchestvo S Ogranichennoi Otvetstvennostyu “Volgogradpromproekt”; —OOO Volgogradpromproyekt; —OOO Volgogradpromproekt; —OOO VPP; and —VPP. 47 Promyslovaya Street, Volgograd, Volgograd Region, 400057, Russia. | For all items subject to the EAR. (See §§ 734.9(g),³ 746.8(a)(3), and 744.21(b) of the EAR). | Policy of denial for all items subject to the EAR apart from food and medicine designated as EAR99, which will be reviewed on a case-by-case basis. See §§ 746.8(b) and 744.21(e) | 89 FR 51652, 6/18/24. 90 FR [INSERT FR PAGE NUMBER] 9/16/25.
| * * * * * *
| Public Joint Stock Company UEC-Ufa Engine Industrial Association, a.k.a., the following fourteen aliases: —Public Joint Stock Company ODK—Ufim Motor—Building Production Association; —Public Joint—Stock Company ODK—Ufimskoye; —PJSC UEC-UMPO; —PAO UEC-UMPO; —ODK-Ufim Motor-Building Production Association; —PJSC ODK-UMPO; —United Engine Manufacturing Corporation-Ufa Engine Building Production Association Public Joint Stock Corporation; —UEC-Ufa Motor-Building Manufacturing Association; —ODK-UMPO Engine Building Enterprise; —Ufa Engine-Manufacturing Company; —ODK-UMPO PAO; —ODK-UMPO Engine Building Association; —Ufa Engine Building Manufacturing Company; and —UEC-UMPO. 2 Ferina Street, Ufa, Republic of Bashkortostan, 450039, Russia; and 4 Selskaya Bogorodskaya Street, Ufa, Republic of Bashkortostan, 450039, Russia; and 7 Vishnevaya Street, Moscow, 125362, Russia; and 47/1 Tukhvata Yanabi Boulevard, Ufa, Republic of Bashkortostan, 450043, Russia; and 12 Petrozavodskaya Street, Ufa, Republic of Bashkortostan, 450030, Russia; and 32/3 Volgogradski Avenue, Building 3, Building 11, Moscow, 109316, Russia; and 13 Kasatkina Street, Moscow, 129301, Russia; and Building 9, Lytkarino, Moscow Region, 140080, Russia; and Baigildino Village, Nurimanovski Region, Republic of Bashkortostan, 452443, Russia; and Atamanovka Village, Karaidelski Region, Republic of Bashkortostan, 452377, Russia. | For all items subject to the EAR. (See §§ 734.9(g),³ 746.8(a)(3), and 744.21(b) of the EAR). | Policy of denial for all items subject to the EAR apart from food and medicine designated as EAR99, which will be reviewed on a case-by-case basis. See §§ 746.8(b) and 744.21(e) | 89 FR 68548, 8/27/24. 90 FR [INSERT FR PAGE NUMBER] 9/16/25.
* * * * * * *
SINGAPORE | * * * * * *
| Shanghai Fudan Microelectronics (HK) Co., Ltd., a.k.a., the following two aliases: —Shanghai Fudan Microelectronics (HK) Limited Singapore Branch; and —Shanghai Fudan Microelectronics (HK) Ltd. Singapore Representative Office 8 Burn Road, #15-13, Trivex, Singapore 369977; and 47 Kallang Pudding Road, #08-06 The Crescent @Kallang, 349318, Singapore. (See alternate address under China and Taiwan). | For all items subject to the EAR (See § 744.11 of the EAR). | Presumption of denial | 90 FR [INSERT FR PAGE NUMBER] 9/16/25.
* * * * * * *
TAIWAN | * * * * * *
| Shanghai Fudan Microelectronics (HK) Co., Ltd., a.k.a., the following two aliases: —Shanghai Fudan Microelectronics (HK) Ltd., Taiwan Representative Office; and —Shanghai Fudan Microelectronics (HK) Limited Taiwan Branch Room 1225, 12th Floor, No. 252, Section 1, Neihu Road, Neihu District, Taipei City, 114, Taiwan. (See alternate address under China and Singapore). | For all items subject to the EAR (See § 744.11 of the EAR). | Presumption of denial | 90 FR [INSERT FR PAGE NUMBER] 9/16/25.
* * * * * * *
TURKEY | * * * * * *
| Atempo Proje Taahhüt Ses ve Görüntü Sistemleri Anonim Şirketi İstanbul Şubesi, Bülent Ecevit Bulvarı No: 141/A, Lara, Antalya, 07230, Turkey; and Taşpınar Mah. 2899 No: 5 İncek Gölbaşı, Ankara, Turkey; and Esentepe Mah. Gazeteciler Sit. Yazarlar Sok. No: 10, İstanbul, Turkey. | For all items subject to the EAR. (See §§ 734.9(g),³ 746.8(a)(3), and 744.11 of the EAR). | Policy of denial for all items subject to the EAR. See § 746.8(b) | 90 FR [INSERT FR PAGE NUMBER] 9/16/25.
| * * * * * *
| Biopharmist Medikal Urunler Dis Ticaret LTD STI, a.k.a., the following two aliases: —Biopharmist; and —Biopharmist Medikal. D-134956, Orta Mah. Oztes Sk, No.3, Orhanli, Tuzla, Istanbul, Turkey; and Inonu Mah., 19 Mayis Cd., No 106-5, Atasehir, Istanbul 34755, Turkey. | For all items subject to the EAR (See §§ 734.9(g),³ 746.8(a)(3), and 744.21(b) of the EAR). | Policy of denial for all items subject to the EAR apart from food and medicine designated as EAR99, which will be reviewed on a case-by-case basis. See §§ 746.8(b) and 744.21(e) | 89 FR 68548, 8/27/24. 90 FR [INSERT FR PAGE NUMBER] 9/16/25.
| * * * * * *
| BuyBest Electronic, a.k.a., the following three aliases: —Buy Best Electronic Pars; —Buybest Elektronik İthalat İhracat Limited Şirketi; and —Andriman Group İnşaat İthalat İhracat Sanayi Ve Ticaret Limited Şirketi. 19 Mayis mah, Halaskargazi cad, Polat pasaji, No:158, D:96 Şişli, Istanbul, Turkey. (See alternate addresses under China and Iran.) | For all items subject to the EAR. (See § 744.11 of the EAR). | Presumption of denial | 89 FR 68548, 8/27/24. 90 FR [INSERT FR PAGE NUMBER] 9/16/25.
| * * * * * *
| Dentun Elektronik, Marmara Mah. Önder Cad., İhlas Marmara Evleri 1. Kisim C8 Blok No:8B İc Kapı No:4, İstanbul, 34524, Turkey. | For all items subject to the EAR (See § 744.11 of the EAR). | Policy of denial for all items subject to the EAR | 90 FR [INSERT FR PAGE NUMBER] 9/16/25.
| * * * * * *
| EB Teknoloji Sistemleri Anonim Şirketi, a.k.a., the following one alias: —Algoritma Bilişim Sistemleri a.ş. Bülent Ecevit Bulvarı No: 141/A Lara, Antalya, 07230, Turkey; and Taşpınar Mah. 2899 No: 5 İncek Gölbaşı, Ankara, Turkey; and Esentepe Mah. Gazeteciler Sit. Yazarlar Sok. No: 10b İstanbul, Turkey; and Bayraktar Mah. Macka Sk. Birlik Apt. No:5 İç Kapı No:1 Ankara, Turkey. | For all items subject to the EAR. (See §§ 734.9(g),³ 746.8(a)(3), and 744.11 of the EAR). | Policy of denial for all items subject to the EAR. See § 746.8(b) | 90 FR [INSERT FR PAGE NUMBER] 9/16/25.
* * * * * * *
UNITED ARAB EMIRATES | * * * * * *
| HAS General Trading LLC, a.k.a., the following three aliases: —HAS Aviation; —HAS GT; and —HAS Aviation GT. Tamani Art Tower Suite 1937, Burj Khalifa District, P.O. Box 183744, Dubai, U.A.E.; and Business Bay, Burj Khalifa District, Dubai, U.A.E. | For all items subject to the EAR (See § 744.11 of the EAR). | Presumption of denial | 90 FR [INSERT FR PAGE NUMBER] 9/16/25.
| * * * * * *
| Smart Mail Services, a.k.a., the following one alias: —Smart Mail Service LLC. Sheikh Zayed Road, Unit 111, 1st Floor, Blue Building Tower, Dubai, United Arab Emirates; and Salahuddin Road, Al Khabaisi Area, Deira, Dubai, United Arab Emirates; and Al Maktoum Rd, Office 304, 3rd Floor, MM Tower, Deira, Dubai, United Arab Emirates. (See alternate address under Iran.) | For all items subject to the EAR (See § 744.11 of the EAR). | Presumption of denial | 90 FR [INSERT FR PAGE NUMBER] 9/16/25.
* * * * * * *
* * * * * * *
³ For this entity, “items subject to the EAR” includes foreign-produced items that are subject to the EAR under § 734.9(g) of the EAR. See §§ 744.11, 744.21, and 746.8 of the EAR for related license requirements, license review policy, and restrictions on license exceptions.
⁴ For this entity, “items subject to the EAR” includes foreign-produced items that are subject to the EAR under § 734.9(e)(2) of the EAR. See § 744.11(a)(2)(iv) for related license requirements and license review policy.

Julia A. Khersonsky,
Deputy Assistant Secretary for Strategic Trade.

[FR Doc. 2025-17893 Filed 9-12-25; 4:15 pm]

BILLING CODE 3510-33-P